DEPARTMENT OF EDUCATION

Applications for New Awards; Technical Assistance and Dissemination To Improve Services and Results for Children With Disabilities—The National Center for Systemic Improvement

AGENCY: Office of Special Education and Rehabilitative Services, Department of Education.

ACTION: Notice.

SUMMARY: The Department of Education (Department) is issuing a notice inviting applications for new awards for fiscal year (FY) 2024 for the National Center for Systemic Improvement, Assistance Listing Number 84.326R. This notice relates to the approved information collection under OMB control number 1820-0028.

DATES:

Applications Available: March 21, 2024.

Deadline for Transmittal of Applications: May 20, 2024.

Deadline for Intergovernmental Review: July 19, 2024.

Pre-Application Webinar Information: No later than March 26, 2024, the Office of Special Education Programs and Rehabilitative Services will post pre-recorded informational webinars designed to provide technical assistance (TA) to interested applicants. The webinars may be found at www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/d/2022-26554.

FOR FURTHER INFORMATION CONTACT: Perry Williams, U.S. Department of Education, 400 Maryland Avenue SW, Room 4A10, Washington, DC 20202. Telephone: (202) 987-0138. Email: perry.williams@ed.gov.

If you are deaf, hard of hearing, or have a speech disability and wish to access telecommunications relay services, please dial 7-1-1.

SUPPLEMENTARY INFORMATION:

Full Text of Announcement

I. Funding Opportunity Description

Purpose of Program: The purpose of the Technical Assistance and Dissemination to Improve Services and Results for Children with Disabilities program is to promote academic achievement and to improve results for children with disabilities by providing TA, supporting model demonstration projects, disseminating useful information, and implementing activities that are supported by scientifically based research.

Priority: This competition includes one absolute priority. In accordance with 34 CFR 75.105(b)(2)(v), this priority is from allowable activities specified in the statute (see sections 663 and 681(d) of the Individuals with Disabilities Education Act (IDEA); 20 U.S.C. 1463 and 1481(d)).

Absolute Priority: For FY 2024 and any subsequent year in which we make awards from the list of unfunded applications from this competition, this priority is an absolute priority. Under 34 CFR 75.105(c)(3), we consider only applications that meet this priority.

This priority is:

The National Center for Systemic Improvement.

Background

The cornerstone of IDEA is to ensure that all children, regardless of the nature or severity of their disability, have access to a free appropriate public education (FAPE) in the least restrictive environment (LRE). While States and local educational agencies (LEAs) are primarily responsible for providing FAPE in the LRE for all eligible children with disabilities (CWD), it is in the interest for the Department to ensure States and LEAs are in compliance with the IDEA and effectively serving CWD. 20 U.S.C. 1400(c)(6). Therefore, the Department proposes to fund the National Center for Systemic Improvement to provide State educational agencies (SEAs) with an array of tools, resources, and assistance to improve the educational results and functional outcomes for CWD.

IDEA places the responsibility for ensuring access to FAPE in the LRE on the SEA. 34 CFR 300.101(b). As such, the SEA must monitor IDEA implementation by LEAs to ensure that LEAs meet IDEA requirements with particular emphasis on those requirements that are most closely related to improving educational results and functional outcomes for CWD. 20 U.S.C. 1416(a)(2)(A).

The National Assessment of Educational Progress (NAEP) scores for CWD have lagged behind those of their peers without disabilities for the past two decades. Although average NAEP score gaps narrowed between students with and without disabilities since 2019, results of the 2022 NAEP show that CWD, including those with 504 plans, performed 40 points below children without disabilities in fourth grade reading, with average scores of 183 and 223, respectively and 28 points below their peers in math for the same grade with average scores of 212 and 240, respectively (U.S. Department of Education, 2022). Also, the National Center for Education Statistics (2023) recent data from the 2019-2020 school year show that the high school graduation rate for all children was 86.5 percent while the graduation rate for CWD was 70.6 percent.

As stated in IDEA, research and experience has demonstrated CWD are more effectively educated when there are high expectations and there is access to the general curriculum in the regular classroom, to the maximum extent possible. 20 U.S.C. 1400(c)(5)(A). One method SEAs use to ensure high expectations and access to the general curriculum in the regular classroom, to the maximum extent possible, is through implementing reasonably designed general supervision systems.¹ Through a reasonably designed general supervision system, an SEA monitors IDEA implementation by LEAs to ensure that LEAs meet IDEA requirements with particular emphasis on those requirements that are most closely related to improving educational results and functional outcomes for CWD, like increased assessment proficiency and graduation rates. 20 U.S.C. 1416(a)(2)(A).

¹ A reasonably designed State general supervision system should include eight integrated components. These components include the following: Integrated monitoring activities; data on processes and results; the State Performance Plan/Annual Performance Report; fiscal management; effective dispute resolution; targeted TA and professional development; policies, procedures, and practices resulting in effective implementation; and improvement, correction, incentives, and sanctions.

The Office of Special Education Programs' (OSEP's) most recent Part B findings from its Differentiated Monitoring and Supports (DMS) 2.0 ² visits highlight ongoing concerns that States' general supervision systems are not designed to identify and correct noncompliance in LEAs related to monitoring and improvement, fiscal monitoring, dispute resolution, early childhood transition, and significant disproportionality as well as other general supervision requirements. Further, IDEA section 616(d) determinations ³ show that between 2014 and 2023, only seven Part B States consistently received the “meets requirements” determination in accordance with 20 U.S.C. 1416(d)(2)(A).

² https://sites.ed.gov/idea/files/DMS-2.0-Overview.pdf.

³ Consistent with IDEA section 616(d), the Department must make an annual determination as to the extent to which each State's IDEA Part B program is meeting IDEA requirements. The Department can determine that a State meets the requirements and purposes of IDEA Part B, needs assistance in implementing Part B requirements, needs intervention in implementing Part B requirements, or needs substantial intervention in implementing Part B requirements. 20 U.S.C. 1416(d)(2)(A).

In response to these ongoing findings, in July 2023, OSEP released to the field, Guidance on State General Supervision Responsibilities under Parts B and C of the IDEA.⁴ This guidance is intended to support States as they implement, monitor progress, and continuously update, with fidelity, reasonably designed general supervision systems to ensure statewide accountability to identify and correct noncompliance in a timely manner; increase accountability through the collection of timely and accurate data; and ensure the full implementation of IDEA for CWD and their families.

⁴ https://sites.ed.gov/idea/files/Guidance_on_State_General_Supervision_Responsibilities_under_Parts_B_and_C_of_IDEA-07-24-2023.pdf.

There are several challenges that affect States' abilities to effectively meet the requirements of IDEA and lead successful systemic improvement efforts. Recently, the pandemic and its impact exacerbated the educational disparities between CWD and their peers without disabilities and also highlighted existing gaps in State infrastructures (Pier et al., 2021). Specifically, SEAs suffer from a “capacity gap” that undermines their ability to monitor and enforce policy mandates, provide TA, and deliver professional development (PD) to LEAs that support continuous improvement efforts to ensure CWD achieve equitable outcomes. A major contributor to this “capacity gap” is the turnover rate of SEA administrators and leaders, which has created a lack of continuity in institutional knowledge and leadership. For example, States filled positions for 10 new directors of special education (17 percent) in 2021; 16 (27 percent) in 2022; and 12 (21 percent) in 2023.

In addition, a National Center for Learning Disabilities (NCLD) report, Assessing ESSA: Missed Opportunities for Children with Disabilities and a review of State Systemic Improvement Plans (SSIPs) submitted by States in 2023, continue to expose States' capacity challenges, including (1) promotion of Universal Design for Learning as a natural connection for general and special education collaboration; (2) meaningful engagement of diverse perspectives to recognize that student and family voices are inherently important sources of data; (3) integration of State general supervision systems to allow components to connect, interact, and inform one another, avoiding silos across the system; (4) the ability to strategically allocate resources where there are weaknesses in meeting IDEA and their fiscal requirements; (5) robust mapping of systems of support to align with State priorities and initiatives, guidance to the field, and resources to support evidence-based practices (EBPs) selection, adoption, use, and scaling; (6) SSIP implementation and measuring State Identified Measurable Result impact; (7) effective systems alignment with general education efforts; and (8) conditions for continuous improvement to advance educational equity (NCLD, 2018).

Successfully addressing these challenges and improving State complex systems involves changing actions and behaviors as well as the “hearts and minds” of each partner (e.g., educators, administrators, community members, and families) in an ongoing way (Blase et al., 2014). This continuous improvement approach requires a level of capacity that SEAs may not have, as it goes well beyond compliance monitoring and into sustained TA and support, and developing leadership and staff capacity to solve their unique challenges (Heifetz et al., 2009). In response to these internal capacity limitations, SEAs tend to rely on an array of external support and assistance from consultants, coaches, and statewide TA providers.

This Center will serve as a critical support to States working to address these and other capacity challenges and to improve the educational results and functional outcomes for CWD. This Center will advance the Secretary's priorities in promoting equity in student access to educational resources and opportunities. The Center will support States to use data to evaluate, analyze, refine, strengthen, and, if applicable, redesign their general supervision systems for effectiveness in improving educational results and functional outcomes for CWD as well as to address systemic inequities.

Priority

The purpose of this priority is to fund a cooperative agreement to establish and operate the National Center for Systemic Improvement (project). This project will provide sustained TA to SEAs to support them to effectively implement IDEA, build the capacity of State directors and State-level staff to meet the requirements of IDEA and build statewide systems to advance educational equity, mitigate SEA turnover, and improve academic and functional outcomes for children and youth with disabilities.

The project must achieve, at a minimum, the following expected outcomes:

(a) Increased capacity of SEAs to support LEAs and schools in selecting and implementing evidence-based ⁵ practices (EBPs) and high-leverage practices (HLPs) ⁶ within frameworks supported by evidence that drive effective learning experiences, instruction, interventions, and services and supports to improve educational results and functional outcomes for CWD;

⁵ For the purposes of this priority, “evidence-based” means, at a minimum, evidence that demonstrates a rationale (as defined in 34 CFR 77.1), where a key project component included in the project's logic model is informed by research or evaluation findings that suggest the project component is likely to improve relevant outcomes.

⁶ For the purposes of this priority, “high-leverage practices” refers to a set of practices in special education that are essential to improving student learning and behavior and can be learned through coursework, deliberately practiced in clinical practice, and generalized in future field experiences. For more detailed information on high-leverage practices, see High-Leverage Practices in Special Education at https://highleveragepractices.org/.

(b) Increased capacity of SEAs to use data to evaluate, analyze, refine, strengthen, and if applicable, redesign their general supervision systems to ensure all components are reasonably designed and inform continuous improvement efforts;

(c) Increased capacity of SEAs to implement their general supervision systems to support LEAs and schools to effectively implement IDEA and deliver equitable and effective IDEA services;

(d) Increased capacity of SEAs to use data to engage in continuous improvement that builds more equitable, effective, and sustainable State systems to improve educational results and functional outcomes for children and youth with disabilities and their families; and

(e) Increased capacity of SEAs to meaningfully engage diverse State and local administrators, educators, community members, and families, including those historically marginalized by the education system in decision making processes.

In addition to these programmatic requirements, to be considered for funding under this priority, applicants must meet the application and administrative requirements in this priority, which are:

(a) Demonstrate, in the narrative section of the application under “Significance,” how the proposed project will—

(1) Address the current and emerging capacity needs (especially post-pandemic) of SEAs to ensure the effective redesign, if applicable, implementation and evaluation of their general supervision systems to support both results focused implementation of the IDEA and compliance with IDEA requirements. To meet this requirement, the applicant must—

(i) Demonstrate knowledge of current educational issues and policy initiatives relating to SEAs' effective systems alignment with general education and IDEA efforts that target and support LEA improvement;

(ii) Present information and data about the current capacity of SEAs to support continuous improvement, and how the project will enhance SEA capacity to support LEAs and schools to implement, scale-up, and sustain the use of EBPs and HLPs with fidelity; and

(iii) Demonstrate knowledge of the current capacity of SEAs to implement and equitably apply policies and practices that support equitable outcomes for children and youth with disabilities and their families;

(2) Increase SEA implementation of policies and practices that can improve SEA retention rates of special education leaders;

(3) Use effective approaches to disseminate Department guidance, knowledge, tools, and resources to SEAs, LEAs, diverse recipients, and other Department-funded TA centers;

(4) Implement effective TA strategies and deliver evidence-based PD; and

(5) Result in improvements to SEA capacity to use data to evaluate, analyze, refine, strengthen, and, if applicable, redesign their general supervision systems. To meet this requirement, the applicant must describe the results that the project is expected to make and the likely magnitude or importance of these results.

(b) Demonstrate, in the narrative section of the application under “Quality of project services,” how the proposed project will—

(1) Ensure equal access and treatment for members of groups that have traditionally been underrepresented based on race, color, national origin, gender, age, or disability. To meet this requirement, the applicant must describe how it will—

(i) Identify the needs of the intended recipients for TA and information; and

(ii) Ensure that services and products meet the needs of the intended recipients of the project services;

(2) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

(3) Use a conceptual framework (and provide a copy in Appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(4) Be based on current research and make use of EBPs. To meet this requirement, the applicant must describe—

(i) The current research on capacity building, systems change, family engagement, IDEA general supervision systems, and continuous improvement in SEAs;

(ii) The current research on racial and educational equity and how it will inform the TA;

(iii) Best practices to build SEA leadership capacity and strategies to mitigate turnover;

(iv) The current research about adult learning principles and implementation science that will inform the proposed TA; and

(v) How the proposed project will incorporate current research and practices in the development and delivery of its products and services;

(5) Develop products and provide services that are of high quality and sufficient intensity and duration to achieve the intended outcomes of the proposed project. To address this requirement, the applicant must describe—

(i) How it proposes to identify or develop the knowledge base SEA leaders need to—

(A) Review current systems to identify the conditions to support continuous improvement, build SEA capacity to implement general supervision systems, which are reasonably designed to effectively support the implementation of IDEA requirements, and assist SEAs to engage in OSEP's DMS processes;

(B) Ensure integrated monitoring activities are part of the SEAs' general supervision system and support the ability to review and evaluate an LEA's implementation of IDEA with a particular emphasis on improved educational results and functional outcomes, and compliance with IDEA requirements; and

(C) Support advancing educational equity within State general supervision systems to include analyzing disaggregated data and examining policies and practices in the system to identify disparities and develop and implement an action plan to address identified disparities;

(ii) The proposed approach to universal, general TA,⁷ which must describe—

⁷ “Universal, general TA” means TA and information provided to independent users through their own initiative, resulting in minimal interaction with TA project staff and including one-time, invited or offered conference presentations by TA project staff. This category of TA also includes information or products, such as newsletters, guidebooks, or research syntheses, downloaded from the TA project's website by independent users. Brief communications by TA project staff with recipients, either by telephone or email, are also considered universal, general TA.

(A) The intended recipients, including the type and number of recipients, that will receive the products and services; the products and services that the project proposes to make available;

(B) The development and maintenance of a high-quality website, with an easy-to-navigate design, that meets or exceeds government- or industry-recognized standards for accessibility; and

(C) The expected reach and impact of universal, general TA;

(iii) The proposed approach to targeted, specialized TA,⁸ which must describe—

⁸ “Targeted, specialized TA” means TA services based on needs common to multiple recipients and not extensively individualized. A relationship is established between the TA recipient and one or more TA project staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services;

(B) The products and services that the project proposes to make available;

(C) The proposed approach to measure the readiness of potential TA recipients to work with the project, including, at a minimum, an assessment of potential recipients' current infrastructure, available resources, and ability to build capacity at the local level;

(D) The project's proposed approach to assist SEAs with aligning general supervision components to current State initiatives, strategic planning, and priorities for alignment;

(E) The project's proposed approach to establish and convene ad-hoc cohorts of States experiencing similar issues to assist with providing differentiated problem-solving and the sharing of innovative and promising approaches;

(F) How to best support SEAs, with the understanding that each State is a unique complex system, with differing infrastructures, State priorities, capacity challenges, and political environments; and

(G) The expected impact of targeted, specialized TA;

(iv) The proposed approach to intensive, sustained TA,⁹ which must describe—

⁹ “Intensive, sustained TA” means TA services often provided on-site and requiring a stable, ongoing relationship between the TA project staff and the TA recipient. “TA services” are defined as negotiated series of activities designed to reach a valued outcome. This category of TA should result in changes to policy, program, practice, or operations that support increased recipient capacity or improved outcomes at one or more systems levels.

(A) The intended recipients, including the type and number of recipients, that will receive the products and services, a description of the products and services that the Center proposes to make available, and the expected impact of those products and services under this approach;

(B) The proposed approach to measure the readiness of the SEAs to work with the project, including their commitment, alignment to their needs, current infrastructure, available resources, and ability to build capacity at the LEA level;

(C) Its proposed plan to prioritize TA recipients whose most recent annual determination by the Secretary was that the State needs intervention under section 616(d)(2)(A)(iii) of IDEA or needs substantial intervention under section 616(d)(2)(A)(iv) of IDEA in implementing the requirements of Part B of IDEA;

(D) Its proposed plan for assisting SEAs to build or enhance PD systems based on adult learning principles and that include sustained coaching; and

(E) Its proposed plan for working with appropriate levels of the education system (e.g., SEAs, educational service agencies, LEAs, institutions of higher education (IHEs), educator preparation programs, other TA providers, parents, and families) to ensure that there is communication between each level and that there are systems in place to support implementation of EBPs;

(v) How the proposed project will intentionally engage families of children with disabilities and individuals with disabilities—including underserved families ¹⁰ and individuals—in the development, implementation, and evaluation of its products and services across all levels of TA; and

¹⁰ For the purposes of this priority, “underserved families” refers to foster, kinship, migrant, technologically unconnected, and military- or veteran-connected families; and families of color, living in poverty, without documentation of immigration status, experiencing homelessness or housing insecurity, or impacted by the justice system, including the juvenile justice system. Underserved families also refers to families that include: members of a federally or State recognized Indian Tribe; English learners; adults who experience a disability; members who are lesbian, gay, bisexual, transgender, queer or questioning, or intersex (LGBTQI+); adults in need of improving their basic skills or with limited literacy; and disconnected adults.

(vi) How the proposed project will use non-project resources to achieve the intended project outcomes;

(6) Develop products and implement services that maximize efficiency. To address this requirement, the applicant must describe—

(i) How the proposed project will use technology to achieve the intended project outcomes;

(ii) How the proposed project will collaborate with other federally funded TA centers, including, at a minimum, the Office of Elementary and Secondary Education (OESE) National and Regional Comprehensive Centers, OSEP Parent Centers and OESE Statewide Family Engagement Centers, the National Center for Supporting School Building and Early Intervention Program Administrators to Effectively Implement IDEA and Improve Systems Serving Children with Disabilities, the Center for IDEA Fiscal Reporting, and national organizations, as appropriate, to develop and implement targeted TA strategies, reduce duplication of effort, and assist with coordination of TA efforts across multiple TA Centers supporting States; and

(iii) How the proposed project will use non-project resources to achieve the intended project outcomes;

(7) Systematically disseminate information, products, and services to varied intended audiences. To address this requirement the applicant must describe—

(i) The variety of dissemination strategies the project will use throughout the five years of the project to promote awareness and use of its products and services;

(ii) How the project will tailor dissemination strategies across all planned levels of TA to ensure that products and services reach intended recipients, and those recipients can access and use those products and services;

(iii) How the project's dissemination plan is connected to the proposed outcomes of the project; and

(iv) How the project will evaluate and correct, as needed, all digital products and external communications to ensure they meet or exceed government or industry-recognized standards for accessibility.

(c) In the narrative section of the application under “Quality of the project evaluation,” include an evaluation plan for the project as described in the following paragraphs. The evaluation plan must describe measures of progress in implementation, including the criteria for determining the extent to which the project's products and services have met the goals for reaching its target population; measures of intended outcomes or results of the project's activities in order to evaluate those activities; and how well the goals or objectives of the proposed project, as described in its logic model, have been met.

The applicant must provide an assurance that, in designing the evaluation plan, it will—

(1) Designate, with the approval of the OSEP project officer, a project liaison with sufficient dedicated time, experience in evaluation, and knowledge of the project to work in collaboration with the Center to Improve Program and Project Performance (CIPP),¹¹ the project director, and the OSEP project officer on the following tasks:

¹¹ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise the logic model submitted in the application, as appropriate, to provide for a more comprehensive measurement of implementation and outcomes and to reflect any changes or clarifications to the model discussed at the kick-off meeting;

(ii) Refine the evaluation design and instrumentation proposed in the application, as appropriate, to be consistent with the revised logic model and using the most rigorous design suitable (e.g., prepare evaluation questions about significant program processes and outcomes; develop quantitative or qualitative data collections that permit both the collection of progress data, including fidelity of implementation, as appropriate, and the assessment of project outcomes; and identify analytic strategies); and

(iii) Revise the evaluation plan submitted in the application such that it clearly—

(A) Specifies the evaluation questions, measures, and associated instruments or sources for data appropriate to answer these questions, suggests analytic strategies for those data, provides a timeline for conducting the evaluation, and includes staff assignments for completing the evaluation activities;

(B) Delineates the data expected to be available by the end of the second project year for use during the project's evaluation (3+2 review) for continued funding described under the heading Fourth and Fifth Years of the Project; and

(C) Can be used to assist the project director and the OSEP project officer, with the assistance of CIPP, as needed, in specifying the project performance measures to be addressed in the project's annual performance report (APR);

(2) Dedicate sufficient staff time and other resources during the first six months of the project to collaborate with CIPP staff, including regular meetings (e.g., weekly, biweekly, or monthly) with CIPP and the OSEP project officer, in order to accomplish the tasks described in paragraph (C)(1) of this section; and

(3) Dedicate sufficient funds in each budget year to cover the costs of carrying out the tasks described in paragraphs (C)(1) and (2) of this section and revising and implementing the evaluation plan. Please note in your budget narrative the funds dedicated for this activity.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities;

(4) The proposed project will have processes, resources, and funds in place to provide equitable access for project staff, contractors, and partners, who require digital accessibility accommodations; ¹² and

¹² For information about digital accessibility and accessibility standards from Section 508 of the Rehabilitation Act, visit https://osepideasthatwork.org/resources-grantees/508-resources.

(5) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period;

Note: Within 30 days of receipt of the award, a post-award teleconference must be held between the OSEP project officer and the grantee's project director or other authorized representative.

(ii) A three-day project directors' conference in Washington, DC, during each year of the project period. The project must reallocate funds for travel to the project directors' conference no later than the end of the third quarter of each budget period if the meeting is conducted virtually;

(iii) Two annual two-day trips to attend Department briefings, Department-sponsored conferences, and other meetings, as requested by OSEP; and

(iv) A one-day intensive 3+2 review meeting in Washington, DC, during the second year of the project period;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Engage a racially, ethnically, and culturally diverse group of doctoral students or post-doctoral fellows, including those with disabilities and those who are multilingual, in the project to increase the number of future leaders in the field who are knowledgeable about effective State systems designed to support equitable outcomes for children and youth with disabilities and their families at the local level;

(5) Maintain a high-quality and language and disability accessible website;

(6) Ensure that annual project progress toward meeting project goals is posted on the project website; and

(7) Include, in Appendix A, an assurance to assist OSEP with the transfer of pertinent resources and products and to maintain the continuity of services to States during the transition to a new award at the end of this award period, as appropriate.

Fourth and Fifth Years of the Project

In deciding whether to continue funding the project for the fourth and fifth years, the Secretary will consider the requirements of 34 CFR 75.253(a), including—

(a) The recommendations of a 3+2 review team consisting of experts with knowledge and experience in TA and dissemination, systems change to support SEAs, family engagement, and research and evaluation. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances, a failure to make substantial progress, or has not maintained financial and administrative management systems that meet requirements in 2 CFR 200.302, Financial management, and § 200.303, Internal controls. The Department intends to closely monitor unobligated balances and substantial progress under this program and may reduce or discontinue funding accordingly.

References

Blase, K., Fixsen, D., Sims, B., & Ward, C. (2014). Implementation science: Changing hearts, minds, behavior, and systems to improve educational outcomes. National Implementation Research Network, University of North Carolina at Chapel Hill. https://fpg.unc.edu/sites/fpg.unc.edu/files/resource-files/2014%20Wing%20Summit%20KB.pdf.

Heifetz, R.A., Linsky, M., & Grashow, A. (2009). The practice of adaptive leadership: Tools and tactics for changing your organization and the world. Harvard Business Press.

National Center for Education Statistics. (2023). Public high school graduation rates. Condition of education. U.S. Department of Education, Institute of Education Sciences. https://nces.ed.gov/programs/coe/indicator/coi.

National Center for Learning Disabilities (NCLD). (2018). Accessing ESSA: Missed opportunities for children with disabilities. https://hecse.net/wp-content/uploads/2020/09/18.-AssessingESSA_2018.pdf.

Pier, L., Hough, H., Christian, M., Bookman, N., Wilkenfeld, B., & Miller, R. (2021, January). COVID-19 and the educational equity crisis: Evidence on learning loss from the CORE Data Collaborative. Policy Analysis for California Education. https://edpolicyinca.org/newsroom/covid-19-and-educational-equity-crisis.

U.S. Department of Education, National Center for Education Statistics. (2022). National assessment of educational progress [Data file]. www.nationsreportcard.gov/ndecore/xplore/nde.

Waiver of Proposed Rulemaking: Under the Administrative Procedure Act (APA) (5 U.S.C. 553) the Department generally offers interested parties the opportunity to comment on proposed priorities. Section 681(d) of IDEA, however, makes the public comment requirements of the APA inapplicable to the priority in this notice.

Program Authority: 20 U.S.C. 1463 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: The Administration has requested $55,345,000 for the Technical Assistance and Dissemination to Improve Services and Results for Children with Disabilities program for FY 2024, of which we intend to use an estimated $6,250,000 for this competition. The actual level of funding, if any, depends on final congressional action. However, we are inviting applications to allow enough time to complete the grant process if Congress appropriates funds for this program.

Contingent upon the availability of funds and the quality of applications, we may make additional awards in FY 2025 from the list of unfunded applications from this competition.

Maximum Award: We will not make an award exceeding $6,250,000 for a single budget period of 12 months.

Estimated Number of Awards: 1.

Note: The Department is not bound by any estimates in this notice.

Project Period: Up to 60 months.

III. Eligibility Information

1. Eligible Applicants: SEAs; LEAs, including public charter schools that operate as LEAs under State law; IHEs; other public agencies; private nonprofit organizations; freely associated States and outlying areas; Indian Tribes or Tribal organizations; and for-profit organizations.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to Cost Principles described in 2 CFR part 200 subpart E of the Uniform Guidance.

3. Subgrantees: Under 34 CFR 75.708(b) and (c), a grantee under this competition may award subgrants—to directly carry out project activities described in its application—to the following types of entities: IHEs, nonprofit organizations suitable to carry out the activities proposed in the application, and other public agencies. The grantee may award subgrants to entities it has identified in an approved application or that it selects through a competition under procedures established by the grantee, consistent with 34 CFR 75.708(b)(2).

4. Other General Requirements:

(a) Recipients of funding under this competition must make positive efforts to employ and advance in employment qualified individuals with disabilities (see section 606 of IDEA).

(b) Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/d/2022-26554, which contain requirements and information on how to submit an application.

2. Intergovernmental Review: This competition is subject to Executive Order 12372 and the regulations in 34 CFR part 79. Information about Intergovernmental Review of Federal Programs under Executive Order 12372 is in the application package for this competition.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(iv) The extent to which the methods of evaluation include the use of objective performance measures that are clearly related to the intended outcomes of the project and will produce quantitative and qualitative data to the extent possible.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The qualifications, including relevant training and experience, of project consultants or subcontractors.

(iv) The qualifications, including relevant training, experience, and independence, of the evaluator.

(v) The adequacy of support, including facilities, equipment, supplies, and other resources, from the applicant organization or the lead applicant organization.

(vi) The relevance and demonstrated commitment of each partner in the proposed project to the implementation and success of the project.

(vii) The extent to which the budget is adequate to support the proposed project.

(viii) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions, and under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works.

Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an APR that provides the most current performance and financial expenditure information as directed by the Secretary under 34 CFR 75.118. The Secretary may also require more frequent performance reports under 34 CFR 75.720(c). For specific requirements on reporting, please go to www.ed.gov/fund/grant/apply/appforms/appforms.html.

5. Performance Measures: For the purposes of Department reporting under 34 CFR 75.110, we have established a set of performance measures, including long-term measures, that are designed to yield information on various aspects of the effectiveness and quality of the Technical Assistance and Dissemination to Improve Services and Results for Children with Disabilities program. These measures are:

• Program Performance Measure #1: The percentage of Technical Assistance and Dissemination products and services deemed to be of high quality by an independent review panel of experts qualified to review the substantive content of the products and services.

• Program Performance Measure #2: The percentage of Special Education Technical Assistance and Dissemination products and services deemed by an independent review panel of qualified experts to be of high relevance to educational and early intervention policy or practice.

• Program Performance Measure #3: The percentage of all Special Education Technical Assistance and Dissemination products and services deemed by an independent review panel of qualified experts to be useful in improving educational or early intervention policy or practice.

• Program Performance Measure #4: The cost efficiency of the Technical Assistance and Dissemination Program includes the percentage of milestones achieved in the current APR period and the percentage of funds spent during the current fiscal year.

• Long-term Program Performance Measure: The percentage of States receiving Special Education Technical Assistance and Dissemination services regarding scientifically or evidence-based practices for infants, toddlers, children, and youth with disabilities that successfully promote the implementation of those practices in school districts and service agencies.

The measures apply to projects funded under this competition, and grantees are required to submit data on these measures as directed by OSEP.

Grantees will be required to report information on their project's performance in annual and final performance reports to the Department (34 CFR 75.590).

The Department will also closely monitor the extent to which the products and services provided by the project meet needs identified by stakeholders and may require the project to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2024-05979 Filed 3-20-24; 8:45 am]

BILLING CODE 4000-01-P